MEDICARE PAYMENT ADVISORY COMMISSION

Commission Meeting

AGENCY: Medicare Payment Advisory Commission.

ACTION: Notice of meeting.

SUMMARY: The Commission will hold its next public meeting on Thursday, March 10, 2005, and Friday, March 11, 2005, at the Ronald Reagan Building, International Trade Center, 1300 Pennsylvania Avenue, NW., Washington, DC. The meeting is tentatively scheduled to begin at 9:30 a.m. on March 10, and at 9 a.m. on March 11.

Topics for discussion include findings on congressionally mandated studies on critical access hospitals and risk adjustment and other issues related to the adjusted average per capita cost (AAPCC). The Commission will also discuss Medicare Advantage plans, implementation issues with the new Medicare Part D benefit, outpatient pharmacy services in hospitals, and reform issues for various post-acute care settings. The Commission will also host a panel on the use of clinical- and cost-effectiveness information by Medicare.

Agendas will be e-mailed approximately one week prior to the meeting. The final agenda will be available on the Commission's Web site (http://www.MedPAC.gov).

ADDRESSES: MedPAC's address is: 601 New Jersey Avenue, NW., Suite 9000, Washington, DC 2001. The telephone number is (202) 220-3700.

FOR FURTHER INFORMATION CONTACT: Diane Ellison, Office Manager, (202) 220-3700.

Mark E. Miller,
Executive Director.

[FR Doc. 05-4380 Filed 3-4-05; 8:45 am]

BILLING CODE 6820-BW-M